DEPARTMENT OF TRANSPORTATION

Federal Aviation Administration

14 CFR Part 71

[Docket No. FAA-2012-0384; Airspace Docket No. 12-ANM-9]

Amendment of Class D and Class E Airspace; Lewiston, ID

AGENCY: Federal Aviation Administration (FAA), DOT.

ACTION: Final rule.

SUMMARY: This action modifies the Class D and Class E airspace areas at Lewiston, ID, to accommodate aircraft using Area Navigation (RNAV) (GPS) standard instrument approach procedures at Lewiston-Nez Perce County Airport. Also, the geographic coordinates are updated for the airport and navigational aids. This improves the safety and management of Instrument Flight Rules (IFR) operations at the airport.

DATES: Effective date, 0901 UTC, January10, 2013. The Director of the Federal Register approves this incorporation by reference action under 1 CFR part 51, subject to the annual revision of FAA Order 7400.9 and publication of conforming amendments.

FOR FURTHER INFORMATION CONTACT: Eldon Taylor, Federal Aviation Administration, Operations Support Group, Western Service Center, 1601 Lind Avenue SW., Renton, WA, 98057; telephone (425) 203-4537.

SUPPLEMENTARY INFORMATION:

History

On June 4, 2012, the FAA published in the Federal Register a notice of proposed rulemaking (NPRM) to amend controlled airspace at Lewiston-Nez Perce County Airport, Lewiston, ID (77 FR 32921). Interested parties were invited to participate in this rulemaking effort by submitting written comments on the proposal to the FAA. The FAA received one comment from the National Business Aviation Association (NBAA).

The NBAA recommended making the Class E airspace area extending upward from 1,200 feet above the surface larger by lowering some of the adjacent Class E airspace, which begins from between 10,000 Mean Sea Level (MSL) and 14,500 MSL, for aircraft safety. The FAA found merit in this comment and further amended the NPRM with a supplemental NPRM (SNPRM) published in the Federal Register of August 21, 2012 (77 FR 50417). Interested parties were invited to participate in this rulemaking effort by submitting written comments on the proposal to the FAA. No comments were received.

Class D and Class E airspace designations are published in paragraphs, 5000, 6002, 6004 and 6005, respectively, of FAA Order 7400.9W dated August 8, 2012, and effective September 15, 2012, which is incorporated by reference in 14 CFR Part 71.1. The Class D airspace and Class E airspace designations listed in this document will be published subsequently in that Order.

The Rule

This action amends Title 14 Code of Federal Regulations (14 CFR) Part 71 by modifying the Class E airspace area extending upward from 700 and 1,200 feet above the surface at Lewiston-Nez Perce County Airport, Lewiston, ID, to accommodate aircraft using RNAV (GPS) standard instrument approach procedures at the airport. This action also updates the geographic coordinates of the airport, the Nez Perce VHF Omni-Directional Radio Range/Distance Measuring Equipment (VOR/DME), and the Lewiston-Nez Perce Instrument Landing System (ILS) Localizer navigation aids to coincide with the FAA's aeronautical database. This action is necessary for the safety and management of IFR operations.

The FAA has determined this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified this rule, when promulgated, will not have a significant economic impact on a substantial number of small entities under the criteria of the Regulatory Flexibility Act. The FAA's authority to issue rules regarding aviation safety is found in Title 49 of the U.S. Code. Subtitle 1, Section 106 discusses the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it modifies controlled airspace at Lewiston-Nez Perce County Airport, Lewiston, ID.

Environmental Review

The FAA has determined that this action qualifies for categorical exclusion under the National Environmental Policy Act in accordance with FAA Order 1050.1E, “Environmental Impacts: Policies and Procedures,” paragraph 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR Part 71 as follows:

PART 71—DESIGNATION OF CLASS A, B, C, D AND E AIRSPACE AREAS; AIR TRAFFIC SERVICE ROUTES; AND REPORTING POINTS

1. The authority citation for 14 CFR part 71 continues to read as follows:

Authority: 49 U.S.C. 106(g), 40103, 40113, 40120; E. O. 10854, 24 FR 9565, 3 CFR, 1959-1963 Comp., p. 389.

§ 71.1 [Amended]

2. The incorporation by reference in 14 CFR Part 71.1 of the Federal Aviation Administration Order 7400.9W, Airspace Designations and Reporting Points, dated August 8, 2012, and effective September 15, 2012 is amended as follows:

Paragraph 5000 Class D airspace.

* * * * *

ANM ID D Lewiston, ID [Modified]

Lewiston-Nez Perce County Airport, ID

(Lat. 46°22′28″ N., long. 117°00′55″ W.)

That airspace extending upward from the surface to and including 3,900 feet MSL within a 4.1-mile radius of the Lewiston-Nez Perce County Airport. This Class D airspace area is effective during the specific dates and times established in advance by a Notice to Airmen. The effective date and time will thereafter be continuously published in the Airport/Facility Directory.

Paragraph 6002 Class E airspace designated as surface areas.

* * * * *

ANM ID E2 Lewiston, ID [Modified]

Lewiston-Nez Perce County Airport, ID

(Lat. 46°22′28″ N., long. 117°00′55″ W.)

Within a 4.1-mile radius of the Lewiston-Nez Perce County Airport. This Class E airspace area is effective during the specific dates and times established in advance by a Notice to Airmen. The effective date and time will thereafter be continuously published in the Airport/Facility Directory.

Paragraph 6004 Class E airspace designated as an extension to a Class D surface area.

* * * * *

ANM ID E4 Lewiston, ID [Modified]

Lewiston-Nez Perce County Airport, ID

(Lat. 46°22′28″ N., long. 117°00′55″ W.)

Nez Perce VOR/DME

(Lat. 46°22′54″ N., long. 116°52′10″ W.)

Lewiston-Nez Perce ILS Localizer

(Lat. 46°22′27″ N., long. 117°01′54″ W.)

That airspace extending upward from the surface within 2.7 miles each side of the Lewiston-Nez Perce ILS localizer course extending from the 4.1-mile radius of the airport to 14 miles east of the airport and within 3.5 miles each side of the Nez Perce VOR/DME 266° radial extending from the 4.1-mile radius of the airport to 13.1 miles west of the airport. This Class E airspace area is effective during the specific dates and times established in advance by a Notice to Airmen. The effective date and time will thereafter be continuously published in the Airport/Facility Directory.

Paragraph 6005 Class E airspace areas extending upward from 700 feet or more above the surface of the earth.

* * * * *

ANM ID E5 Lewiston, ID [Modified]

Lewiston-Nez Perce County Airport, ID

(Lat. 46°22′28″ N., long. 117°00′55″ W.)

That airspace extending upward from 700 feet above the surface bounded by a line beginning at lat. 46°33′00″ N., long. 117°38′00″ W.; to lat. 46°31′30″ N., long 117°14′00″ W.; to lat. 46°40′00″ N., long. 116°48′00″ W.; to lat. 46°26′00″ N., long. 116°26′00″ W.; to lat. 46°13′00″ N., long. 116°30′00″ W.; to lat. 46°14′00″ N., long. 116°35′00″ W.; to lat. 46°06′00″ N., long. 116°47′00″ W.; to lat. 46°17′00″ N., long. 116°49′00″ W.; to lat. 46°18′00″ N., long 117°00′00″ W.; to lat. 46°17′30″ N., long. 117°22′00″ W.; to lat. 46°10′30″ N., long. 117°26′30″ W.; to lat. 46°12′00″ N., long. 117°36′00″ W.; thence to the point of origin; that airspace extending upward from 1,200 feet above the surface within a 62-mile radius of the Lewiston-Nez Perce County Airport, and within 24 miles each side of the 056° bearing of the airport, extending from the 62-mile radius to 92 miles northeast of the airport.

Issued in Seattle, Washington, on October 23, 2012.
Vered Lovett,
Acting Manager, Operations Support Group, Western Service Center.

[FR Doc. 2012-27659 Filed 11-14-12; 8:45 am]

BILLING CODE 4910-13-P